DEPARTMENT OF COMMERCE

National Oceanic and Atmospheric Administration

RIN 0648-XC341

Endangered and Threatened Species; Take of Anadromous Fish

AGENCY: National Marine Fisheries Service (NMFS), National Oceanic and Atmospheric Administration (NOAA), Commerce.

ACTION: Applications for six new scientific research permits, one permit modification, and one permit renewal.

SUMMARY: Notice is hereby given that NMFS has received eight scientific research permit application requests relating to Pacific salmon, the southern distinct population segment of eulachon, and Puget Sound/Georgia Basin rockfish. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on December 14, 2012.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov. Permit application instructions are available from the address above, or online at apps.nmfs.noaa.gov.

SUPPLEMENTARY INFORMATION:

Species Covered in This Notice

The following listed species are covered in this notice:

Chinook salmon (Oncorhynchus tshawytscha): Threatened Puget Sound (PS); threatened upper Willamette River (UWR); threatened lower Columbia River (LCR); endangered upper Columbia River (UCR); threatened Snake River (SR) spring/sum (spr/sum); threatened SR fall.

Steelhead (O. mykiss): Threatened PS; threatened UWR, threatened LCR; threatened UCR; threatened SR; threatened middle Columbia River (MCR).

Chum salmon (O. keta): Threatened Hood Canal (HC) summer-run, threatened Columbia River (CR).

Sockeye salmon (O. nerka): Threatened Ozette Lake (OL); endangered SR.

Coho salmon (O. kisutch): Threatened LCR.

Rockfish: Puget Sound/Georgia Basin (PS/GB) bocaccio (Sebastes paucispinis); PS/GB canary rockfish (Sebastes pinniger), and PS/GB yelloweye rockfish (Sebastes ruberrimus).

Eulachon: The southern Distinct Populations Segment (DPS) of pacific eulachon (Thaleichthys pacificus).

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 10020-2R

The City of Bellingham (COB) is seeking to renew for five years a research permit that currently allows them to take juvenile PS Chinook salmon and PS steelhead. The sampling would take place in Cemetery Creek, a tributary of Whatcom Creek in Bellingham, WA. The purpose of the study is to assess the effectiveness of habitat restoration measures implemented as part of the Whatcom Creek Long-term Restoration Plan by documenting fish population trends. This research would benefit the affected species by informing future restoration designs as well as providing data to support future enhancement projects. The COB proposes to capture fish using a smolt trap placed in Cemetery Creek. Fish would be identified by species and measured, have a tissue sample taken (to determine their origin), and be released. The researchers do not propose to kill any of the listed salmonids being captured, but a small number may die as an unintended result of the activities.

Permit 16303

The University of Washington (UW) is seeking a five-year research permit to annually take juvenile and adult PS Chinook salmon, HCS chum salmon, PS steelhead, and PS/GB bocaccio. The UW research may also cause them to take the following species for which there are currently no ESA take prohibitions: Southern DPS of Pacific eulachon, PS/GB canary rockfish, and PS/GB yelloweye rockfish. Sampling would take place throughout Puget Sound and the Strait of Juan de Fuca. The purpose of the study is to determine the timing and magnitude of size-selective mortality and other factors that affect growth and survival during the early marine growth period for salmon. This research would benefit the affected species by shedding light on the relationship between salmonid marine mortality, body size, and abundance and thus aid management and guide recovery efforts for various salmonid populations. The UW proposes capturing fish by mid-water trawl, beach seine, and purse seine. The mid-water trawling would be conducted by Canadian Department of Fisheries and Oceans (CDFO) research vessels using a mid-water rope trawl during daylight at various depths and velocities. The mid-water trawl surveys would be coordinated with surveys in Canadian waters. The beach seining and purse seining are designed generate data on critical life stages for different stocks and species of salmon, relate stage-specific size and growth to smolt-adult returns ratios, and increase our understanding of the underlying mechanisms that affect growth at these life stages. During the mid-water trawls, the fish would be identified by species, weighed, measured for length, and checked for coded wire tags (CWTs). Viable adult salmon and rockfish would be released. Any juvenile salmon that suffer lethal injuries would be further sampled for CWTs, scales, fins, stomach contents, and otoliths. During the beach and purse seining, the fish would be anesthetized, identified by species, checked for CWTs, sampled for stomach contents and scale and fin tissues, and released. All juvenile CWT fish would be intentionally sacrificed to determine their origins. The researchers do not propose to kill any other captured fish, but a small number may die as an unintended result of the activities.

Permit 16784

Environ International Corporation (Environ) is requesting a one-year scientific research permit to take juvenile SR fall Chinook salmon, SR spr/sum Chinook salmon, UCR Chinook salmon, UWR Chinook salmon, LCR Chinook salmon, CR chum salmon, LCR coho, SR sockeye salmon, SR steelhead, UCR steelhead, MCR steelhead, LCR steelhead, and UWR steelhead. The objective of the research is to study the degree to which juvenile salmonids may be getting stranded by ship wakes along the lower Columbia River between river mile 21 and 102. The researchers would investigate the potential for stranding at approximately 24 “high risk” sites. The researchers would also evaluate whether the strategic placement of dredged material could reduce the risk of stranding. The research would benefit the listed species by helping river managers determine the likelihood of juvenile stranding along the lower river and investigate potential means for reducing it. Environ would use beach seines to capture, handle, and release juvenile fish. Environ may also collect stranded fish and return them to the river. Environ does not intend to kill any of the fish being captured but a small number may die as an unintended result of the activities.

Permit 16984

ICF International (ICF) is seeking a five-year research permit to annually take juvenile PS Chinook salmon and PS steelhead. Sampling would take place in the Snohomish River estuary. The purpose of the study is to count listed fish during their peak outmigrations and thereby determine how well habitat has been restored by the Smith Island dike breaching. This research would benefit the affected species by helping guide future estuarine habitat restoration and enhancement projects. The ICF would use hand-held beach seines and dip nets to capture the fish. They would be identified by species, measured, and released. The researchers do not propose to kill any of the listed salmonids being captured, but a small number may die as an unintended result of the activities.

Permit 17062—2M

The Northwest Fisheries Science Center (NWFSC) is seeking to modify a research permit that currently allows them to annually take adult and juvenile PS Chinook salmon, PS steelhead, and PS/GB bocaccio. The researchers may also take PS/GB canary rockfish and PS/GB yelloweye rockfish—species for which there are currently no ESA take prohibitions. Sampling would take place near the northern islands in the San Juan Island archipelago. The purpose of the study is to determine how much genetic variation exists between coastal and Puget Sound populations of canary and yelloweye rockfish. The research would benefit rockfish by increasing our understanding of the connectivity (or lack thereof) between rockfish populations in the Puget Sound and populations on the outer coast. The NWFSC proposes to capture fish using hook and line equipment at depths of 50-100 meters during slack tides. Fish would slowly be reeled to the surface to reduce barotrauma. All Chinook salmon and steelhead would be immediately released at the capture site. All captured ESA-listed rockfish would have a small portion of their fin tissue removed for genetics studies and be returned to the water via rapid submersion techniques. If an individual of these species is captured dead or deemed nonviable, it would be retained for genetic analysis. The researchers do not propose to kill any of the listed fish being captured, but a small number may die as an unintended result of the activities.

Permit 17258

The Washington State Department of Natural Resources (WDNR) is seeking a five-year research permit to annually take juvenile PS Chinook salmon, HCS chum salmon, PS steelhead, and OL sockeye salmon. Sampling would take place in some of the streams in Clallam, Jefferson and Grays Harbor counties of western Washington. The purpose of the research is to determine the presence of any fish species in streams located on lands managed by WDNR. This research would benefit the affected species by determining which streams with road-related passage barriers contain listed fish and thus allow DNR to focus its resources on road improvements that would best help those species. The WDNR would use backpack electrofishing equipment to conduct the surveys. The shocked fish would be netted, identified by species, and released. In most cases, the stream survey would terminate with the location of one fish. The researchers do not propose to kill any of the listed salmonids being captured, but a small number may die as an unintended result of the activities.

Permit 17422

Mary Harenda Environmental Consulting (MHEC) is seeking a five-year research permit to annually take juvenile PS Chinook salmon and juvenile and adult PS steelhead. Sampling would take place in the Snohomish River basin. The purpose of the study is to determine fish presence and relative abundance at the Snohomish Basin Mitigation Bank (SBMB) during spring (high flow) and summer (low flow). This research would benefit the affected species by generating information to help guide future salmonid habitat restoration efforts at the SBMB. The MHEC proposes to use beach seines, dip nets, and purse seines to capture the fish. The fish would be identified by species, measured, and released. The researchers do not propose to kill any of the listed salmonids being captured, but a small number may die as an unintended result of the activities.

Permit 17451

Hart Crowser, Inc. (HCI) is seeking a five-year research permit to annually take juvenile and adult PS Chinook salmon and PS steelhead. Sampling would take place in the South Fork Sauk River watershed upstream of the confluence with Elliot Creek. The purpose of the study is to monitor and analyze river, stream, and lake conditions during and after the Federal cleanup of the Monte Cristo Mining Area (mined from 1889 to 1907) for the Washington State Department of Ecology to determine future remedial actions. This research would benefit the affected species by documenting aquatic conditions and thereby guiding future actions to improve salmonid habitat. The HCI would use backpack electrofishing equipment, beach seines, hook and line, minnow traps, and gill nets to capture the fish. The fish would be identified by species, measured, and released. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: November 8, 2012.
Angela Somma,
Chief, Endangered Species Division, Office of Protected Resources, National Marine Fisheries Service.

[FR Doc. 2012-27696 Filed 11-13-12; 8:45 am]

BILLING CODE 3510-22-P